DEPARTMENT OF LABOR

Employment and Training Administration

[TA-W-65,578]

Lyon Workspace Products, Montgomery, IL; Notice of Termination of Investigation

Pursuant to Section 221 of the Trade Act of 1974, as amended, an investigation was initiated on March 12, 2009 in response to a petition filed by the United Steel Workers, Local 1636, on behalf of the workers of Lyon Workspace Products, Montgomery, Illinois.

The petitioner requested that the petition be withdrawn. Consequently, the investigation has been terminated.

Signed at Washington, DC, this 27th day of March 2009.
Richard Church,
Certifying Officer, Division of Trade Adjustment Assistance.

[FR Doc. E9-8938 Filed 4-17-09; 8:45 am]

BILLING CODE 4510-FN-P